DEPARTMENT OF JUSTICE

Antitrust Division

Notice Pursuant to the National Cooperative Research and Production Act of 1993—Hydraulic Institute, Inc.

Notice is hereby given that, on September 15, 2004, pursuant to section 6(a) of the National Cooperative Research and Production Act of 1993, 15 U.S.C. 4301 et seq. (“the Act”), Hydraulic Institute, Inc. (“HI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Hydraulic Institute, Inc., Parsippany, NJ. The nature and scope of HI's standards development activities are: more than twenty pump standards for pumps prepared and updated in accordance with the canvass approval process of the American National Standards Institute (“ANSI”). The HI standards define a product, material, process or procedure relating to, inter alia, centrifugal, reciprocating, vertical, rotary, sealless, air operated or controlled volume metering pumps, with reference to one or more of the following: nomenclature, composition, construction, dimensions, tolerances, safety, operating characteristics, performances, quality, rating, testing and service. Further HI's supplier members and others participate in the development of guidelines and standards within the scope of, inter alia, motors and drives, monitoring devices, seals, housings, and more broad-based topics such as electronic data exchange, pump piping, intake design, viscosity correction, variable speed pumping and life cycle cost.

Dorothy B. Fountain,
Deputy Director of Operations, Antitrust Division.

[FR Doc. 04-23511 Filed 10-20-04; 8:45 am]

BILLING CODE 4410-11-M